DEPARTMENT OF TRANSPORTATION

Federal Aviation Administration

14 CFR Part 39

[Docket No. FAA-2012-1162; Directorate Identifier 2012-NM-002-AD; Amendment 39-17459; AD 2013-10-06]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter, A330-200, A330-300, A340-200, A340-300, A340-500, and A340-600 series airplanes. This AD was prompted by several reports of a burning smell and/or smoke in the cockpit during cruise phase leading, in some cases, to diversion to alternate airports. This AD requires an inspection to identify the installed windshields and replacement of any affected windshield. We are issuing this AD to prevent significantly increased workload for the flightcrew, which could, under some flight phases and/or circumstances, constitute an unsafe condition.

DATES: This AD becomes effective July 5, 2013.

The Director of the Federal Register approved the incorporation by reference of certain publications listed in this AD as of July 5, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on November 7, 2012 (77 FR 66760). That NPRM proposed to correct an unsafe condition for the specified products. The European Aviation Safety Agency (EASA), which is the Technical Agent for the Member States of the European Community, has issued EASA Airworthiness Directive 2011-0242, dated December 19, 2011 (referred to after this as the Mandatory Continuing Airworthiness Information, or “the MCAI”), to correct an unsafe condition for the specified products. The Mandatory Continuing Airworthiness Information (MCAI) states:

Several operators have reported cases of burning smell and/or smoke in the cockpit during cruise phase leading in some cases to diversion.

Findings have shown that the cause of these events is the burning of the Saint-Gobain Sully (SGS) windshield connector terminal block.

This condition, if not corrected, could significantly increase the flight crew workload which would, under some flight phases and/or circumstances, constitute an unsafe condition.

For the reasons described above, this [EASA] AD requires the identification of the installed windshields and replacement of the affected part.

* * * * *

You may obtain further information by examining the MCAI in the AD docket.

Revised Service Information

Since the NPRM (77 FR 66760, November 7, 2012) was published, we have received the following service information:

• Airbus Mandatory Service Bulletin A330-56-3009, Revision 02, including Appendix 01, dated February 8, 2012;

• Airbus Mandatory Service Bulletin A340-56-4008, Revision 01, including Appendix 01, dated February 8, 2012; and

• Airbus Mandatory Service Bulletin A340-56-5002, Revision 01, including Appendix 01, dated February 8, 2012.

We have determined that these service bulletins do not add any additional actions to those proposed in the NPRM. Therefore, we have revised paragraphs (g), (h), and (j) of this AD to refer to these service bulletins, and have revised paragraph (i) of this AD to provide credit for actions performed before the effective date of this AD using the previous revisions of those service bulletins.

Comments

We gave the public the opportunity to participate in developing this AD. We considered the comments received. The Air Line Pilots Association (ALPA) stated that it supports the NPRM (77 FR 66760, November 7, 2012).

Request To Revise Applicability

Airbus requested that the applicability stated in the NPRM (77 FR 66760, November 7, 2012) be revised to state the generic Model “A330-200/-300” and “A340-500/-600” series airplanes instead of the specific airplane models. Airbus stated that the actions of the NPRM are actually required for all the series airplanes instead of only the models stated in the NPRM.

We disagree. The models stated in paragraph (c) of the NPRM (77 FR 66760, November 7, 2012) correspond to the model and series airplanes validated by the FAA and identified in an FAA type certificate data sheet (TCDS). Some series airplanes that were identified in the MCAI are not listed on any FAA TCDS and cannot be imported and placed on the U.S. register until that model is validated and identified on an FAA TCDS. If a model identified in the MCAI is identified on an FAA TCDS in the future, we might consider additional rulemaking. We have not changed this AD in this regard.

Conclusion

We reviewed the available data, including the comments received, and determined that air safety and the public interest require adopting the AD with the changes described previously and minor editorial changes. We have determined that these changes:

• Are consistent with the intent that was proposed in the NPRM (77 FR 66760, November 7, 2012) for correcting the unsafe condition; and

• Do not add any additional burden upon the public than was already proposed in the NPRM (77 FR 66760, November 7, 2012).

Costs of Compliance

We estimate that this AD will affect 55 products of U.S. registry. We also estimate that it will take about 2 work-hours per product to comply with the basic requirements of this AD. The average labor rate is $85 per work-hour. Based on these figures, we estimate the cost of this AD to the U.S. operators to be $9,350, or $170 per product.

In addition, we estimate that any necessary follow-on actions would take about 10 work-hours and require parts costing $0, for a cost of $850 per product. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 66760, November 7, 2012), the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-10-06 Airbus: Amendment 39-17459. Docket No. FAA-2012-1162; Directorate Identifier 2012-NM-002-AD.

(a) Effective Date

This airworthiness directive (AD) becomes effective July 5, 2013.

(b) Affected ADs

None.

(c) Applicability

This AD applies to airplanes identified in paragraphs (c)(1) and (c)(2) of this AD, certificated in any category, all manufacturer serial numbers.

(1) Airbus Model A330-201, -202, -203, -223, -223F, -243, -243F, -301, -302, -303, -321, -322, -323, -341, -342, and -343 airplanes.

(2) Airbus Model A340-211, -212, -213, -311, -312, -313, -541, and -642 airplanes.

(d) Subject

Air Transport Association (ATA) of America Code 56, Windows.

(e) Reason

This AD was prompted by several reports of a burning smell and/or smoke in the cockpit during cruise phase leading, in some cases, to diversion to alternate airports. We are issuing this AD to prevent significantly increased workload for the flightcrew, which could, under some flight phases and/or circumstances, constitute an unsafe condition.

(f) Compliance

You are responsible for having the actions required by this AD performed within the compliance times specified, unless the actions have already been done.

(g) Inspection

Within 1,200 flight hours after the effective date of this AD, inspect to identify the manufacturer, the part number, and the serial number of the left-hand (LH) and right-hand (RH) windshields installed on the airplane, in accordance with the Accomplishment Instructions of the applicable Airbus service information identified in paragraph (g)(1), (g)(2), or (g)(3) of this AD. A review of airplane delivery or maintenance records is acceptable in lieu of this inspection if the manufacturer, part number, and serial number of the installed windshields can be conclusively determined from that review.

(1) For Model A330-201, -202, -203, -223, -223F, -243, -243F, -301, -302, -303, -321, -322, -323, -341, -342, and -343 airplanes: Airbus Mandatory Service Bulletin A330-56-3009, Revision 02, including Appendix 01, dated February 8, 2012.

(2) For Model A340-211, -212, -213, -311, -312, and -313 airplanes: Airbus Mandatory Service Bulletin A340-56-4008, Revision 01, including Appendix 01, dated February 8, 2012.

(3) For Model A340-541 and -642 airplanes: Airbus Mandatory Service Bulletin A340-56-5002, Revision 01, including Appendix 01, dated February 8, 2012.

(h) Replacement

If it is found, during the inspection required by paragraph (g) of this AD, that any installed LH or RH windshield was manufactured by Saint-Gobain Sully (SGS) and the part number and serial number are identified in the applicable Airbus service information identified in paragraph (g)(1), (g)(2), or (g)(3) of this AD: Within 9 months or 1,200 flight hours after the effective date of this AD, whichever occurs first, replace all affected LH and RH windshields, in accordance with the Accomplishment Instructions of the applicable Airbus service information identified in paragraph (h)(1), (h)(2), or (h)(3) of this AD.

(1) For Model A330-201, -202, -203, -223, -223F, -243, -243F, -301, -302, -303, -321, -322, -323, -341, -342, and -343 airplanes: Airbus Mandatory Service Bulletin A330-56-3009, Revision 02, including Appendix 01, dated February 8, 2012.

(2) For Model A340-211, -212, -213, -311, -312, and -313 airplanes: Airbus Mandatory Service Bulletin A340-56-4008, Revision 01, including Appendix 01, dated February 8, 2012.

(3) For Model A340-541 and -642 airplanes: Airbus Mandatory Service Bulletin A340-56-5002, Revision 01, including Appendix 01, dated February 8, 2012.

(i) Credit for Previous Actions

This paragraph provides credit for the actions required by paragraphs (g) and (h) of this AD, if those actions were performed before the effective date of this AD using the applicable service information identified in paragraphs (i)(1) through (i)(4) of this AD, which are not incorporated by reference in this AD.

(1) Airbus Service Bulletin A330-56-3009, dated May 4, 2010 (for Model A330-201, -202, -203, -223, -223F, -243, -243F, -301, -302, -303, -321, -322, -323, -341, -342, and -343 airplanes).

(2) Airbus Service Bulletin A330-56-3009, Revision 01, dated January 27, 2011 (for Model A330-201, -202, -203, -223, -223F, -243, -243F, -301, -302, -303, -321, -322, -323, -341, -342, and -343 airplanes).

(3) Airbus Service Bulletin A340-56-4008, dated May 4, 2010 (for Model A340-211, -212, -213, -311, -312, and -313 airplanes).

(4) Airbus Service Bulletin A340-56-5002, dated May 4, 2010 (for Model A340-541 and -642 airplanes).

(j) Parts Installation Limitation

As of the effective date of this AD, do not install on an airplane any affected windshield from SGS having a part number and serial number identified in the applicable service information identified in paragraphs (j)(1), (j)(2), and (j)(3) of this AD, unless a suffix “U” is present at the end of the serial number.

(1) For Model A330-201, -202, -203, -223, -223F, -243, -243F, -301, -302, -303, -321, -322, -323, -341, -342, and -343 airplanes: Airbus Mandatory Service Bulletin A330-56-3009, Revision 02, including Appendix 01, dated February 8, 2012.

(2) For Model A340-211, -212, -213, -311, -312, and -313 airplanes: Airbus Mandatory Service Bulletin A340-56-4008, Revision 01, including Appendix 01, dated February 8, 2012.

(3) For Model A340-541 and -642 airplanes: Airbus Mandatory Service Bulletin A340-56-5002, Revision 01, including Appendix 01, dated February 8, 2012.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to Mandatory Continuing Airworthiness Information European Aviation Safety Agency Airworthiness Directive 2011-0242, dated December 19, 2011 (corrected February 15, 2012), and the service information identified in paragraphs (l)(1)(i) through (l)(1)(iii) of this AD, for related information.

(i) Airbus Mandatory Service Bulletin A330-56-3009, Revision 02, including Appendix 01, dated February 8, 2012.

(ii) Airbus Mandatory Service Bulletin A340-56-4008, Revision 01, including Appendix 01, dated February 8, 2012.

(iii) Airbus Mandatory Service Bulletin A340-56-5002, Revision 01, including Appendix 01, dated February 8, 2012.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-56-3009, Revision 02, including Appendix 01, dated February 8, 2012.

(ii) Airbus Mandatory Service Bulletin A340-56-4008, Revision 01, including Appendix 01, dated February 8, 2012.

(iii) Airbus Mandatory Service Bulletin A340-56-5002, Revision 01, including Appendix 01, dated February 8, 2012.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 16, 2013.
Ali Bahrami,
Manager, Transport Airplane Directorate, Aircraft Certification Service.

[FR Doc. 2013-12519 Filed 5-29-13; 8:45 am]

BILLING CODE 4910-13-P